DEPARTMENT OF COMMERCE

International Trade Administration

[A-201-805]

Certain Circular Welded Non-Alloy Steel Pipe From Mexico: Final Results of Antidumping Duty Administrative Review

AGENCY: Import Administration, International Trade Administration, Department of Commerce.

SUMMARY: On December 9, 2014, the Department of Commerce (the Department) published the preliminary results of the administrative review of the antidumping duty order on certain circular welded non-alloy steel pipe from Mexico.¹ The Department issued post-preliminary results of this administrative review on January 30, 2015 (Post-Preliminary Results).² Also, as a result of our partial rescission of this review, as discussed in the Preliminary Results, Productos Laminados, S.A. de C.V. (Productos Laminados) is the sole remaining respondent.³ ⁴ The period of review (POR) is November 1, 2012, through October 31, 2013.

¹ See Certain Circular Welded Non-Alloy Steel Pipe From Mexico: Preliminary Results and Partial Rescission of Antidumping Duty Administrative Review; 2012-2013, 79 FR 73034 (December 9, 2014) (Preliminary Results).

² See “Antidumping Duty Administrative Review of Circular Welded Non-Alloy Steel Pipe from Mexico: Post-Preliminary Results Decision Memorandum,” dated January 30, 2015.

³ See Preliminary Results.

⁴ The Department initiated an administrative review of both Productos Laminados and Prolamsa, Inc. separately. However, record information indicates that Prolamsa, Inc. is a wholly-owned U.S. subsidiary of Productos Laminados, and is an importer, not a producer, of subject merchandise. Also, during the course of this review, Productos Laminados submitted consolidated responses on behalf of itself and Prolamsa, Inc. For purposes of this Federal Register notice, references to Prolamsa pertain to Productos Laminados and Prolamsa, Inc. collectively. Otherwise, the two entities are referenced separately, where appropriate.

Only one party submitted a case brief. No interested party submitted rebuttal briefs. Based on our analysis of the comment received, we made no changes to the margin calculations. Therefore, the final results of review do not differ from the Post-Preliminary Results. The final dumping margin is listed in the section below entitled, “Final Results of Review.”

DATES: Effective Date: April 13, 2015.

FOR FURTHER INFORMATION CONTACT: Davina Friedmann or Robert James, AD/CVD Operations, Office VI, Import Administration, International Trade Administration, U.S. Department of Commerce, 14th Street and Constitution Avenue NW., Washington, DC 20230; telephone: (202) 482-0698 and (202) 482-0649, respectively.

SUPPLEMENTARY INFORMATION:

Background

On December 9, 2014, the Department published in the Federal Register the preliminary results of the administrative review of the antidumping duty order on certain circular welded non-alloy steel pipe from Mexico for the period November 1, 2012, through October 31, 2013.⁵

⁵ See Preliminary Results.

During this administrative review, the Department also conducted a concurrent scope review. As indicated in the final scope ruling, the Department found that certain black, circular tubing produced to ASTM A-513 by Productos Laminados meets the exclusion language for mechanical tubing in the scope of this antidumping duty order. Pursuant to the final scope ruling, the Department instructed Productos Laminados to submit a revised U.S. sales database incorporating the factors set forth in the scope ruling. Productos Laminados submitted its revised U.S. sales database on January 5, 2014. Consequently, on January 30, 2015, the Department issued the Post-Preliminary Results. The Department also placed on the record of this review the following memorandum: “Productos Laminados de Monterrey S.A. de C.V. and Prolamsa, Inc.—Analysis Memorandum for the Post-Preliminary Results of the 2012/2013 Antidumping Duty Administrative Review of Circular Welded Non-Alloy Steel Pipe from Mexico”, dated January 30, 2015 (Post-Preliminary Analysis Memo). Together, these memoranda explain the changes made to the Preliminary Results, yielding the revised margin for the post-preliminary results of review.

In response to the Department's invitation to comment on the preliminary and post-preliminary results of this review, one party, Prolamsa, filed a case brief on February 9, 2015. No rebuttal briefs were submitted to the Department.

Scope of the Order

The products covered by the order are circular welded non-alloy steel pipes and tubes. The merchandise covered by the order and subject to this review is currently classified in the Harmonized Tariff Schedule of the United States (HTSUS) at subheadings: 7306.30.1000, 7306.30.5025, 7306.30.5032, 7306.30.5040, 7306.30.5055, 7306.30.5085, and 7306.30.5090. Although the HTSUS subheadings are provided for convenience and customs purposes, our written description of the scope of this proceeding is dispositive. A full description of the scope of the order is contained in the memorandum from Christian Marsh, Deputy Assistant Secretary for Antidumping and Countervailing Duty Operations, to Ronald K. Lorentzen, Acting Assistant Secretary for Enforcement and Compliance, “Issues and Decision Memorandum for the Final Results of the Antidumping Duty Administrative Review: Certain Circular Welded Non-Alloy Steel Pipe from Mexico; 2012-2013” (Issues and Decision Memorandum), which is hereby adopted by this notice and incorporated herein by reference. The Issues and Decision Memorandum is a public document and is on file electronically via Enforcement and Compliance's Antidumping and Countervailing Duty Centralized Electronic Service System (ACCESS).⁶ ACCESS is available to registered users at https://access.trade.gov and available to all parties in the Central Records Unit, Room 7046 of the main Department of Commerce building. In addition, a complete version of the Issues and Decision Memorandum can be accessed directly on the internet at http://enforcement.trade.gov/frn. The signed Issues and Decision Memorandum and electronic versions of the Issues and Decision Memorandum are identical in content.

⁶ On November 24, 2014, Enforcement and Compliance's AD and CVD Centralized Electronic Service System (“IA Access”) changed to AD and CVD Centralized Electronic Service System (“ACCESS”). The Web site location also changed from http://iaaccess.rade.gov to http://access.trade.gov. The Final Rule changing the references to the Regulations can be found at 79 FR 69046 (November 20, 2014).

Analysis of Comments Received

All issues raised by interested parties in this administrative review are listed as an attachment to this notice. We have analyzed all interested party comments. Based on our analysis of the comments received, the margin in the final results is unchanged from that presented in the Post-Preliminary Results.

Final Results of Review

We determine the following weighted-average margin exists for the period November 1, 2012, through October 31, 2013:

Manufacturer/Exporter | Weighted-average margin (percent)
Productos Laminados | 7.33

Assessment

The Department will determine, and U.S. Customs and Border Protection (CBP) shall assess, antidumping duties on all appropriate entries of subject merchandise in accordance with the final results of this review. Pursuant to 19 CFR 356.8(a), the Department intends to issue assessment instructions to CBP 41 days after the date of publication of these final results of review.

Cash Deposit Requirements

The following cash deposit requirements will be effective upon publication of these final results for all shipments of the subject merchandise entered, or withdrawn from warehouse, for consumption on or after the publication date of these final results of administrative review, consistent with section 751(a)(2) of the Tariff Act of 1930, as amended (the Act): (1) The cash deposit rate for Productos Laminados will be equal to the weighted-average dumping margin established in the final results of this review, which is listed above; (2) for previously reviewed or investigated companies not participating in this review, the cash deposit rate will continue to be the company-specific rate established from a completed segment of this proceeding for the most recent review period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 32.62 percent, the all-others rate established in the LTFV investigation.⁷ These deposit requirements, when imposed, shall remain in effect until further notice.

⁷ See Final Determination of Sales at Less Than Fair Value: Circular Welded Non-Alloy Steel Pipe From Mexico, 57 FR 42953 (September 17, 1992).

Notification to Interested Parties

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act.

Dated: April 8, 2015.
Ronald K. Lorentzen,
Acting Assistant Secretary for Enforcement and Compliance.

Summary

Background

Scope of the Order

Discussion of the Issue

Comment: The Department Should Grant a CEP Offset Adjustment to Normal Value Recommendation

[FR Doc. 2015-08430 Filed 4-10-15; 8:45 am]

BILLING CODE 3510-DS-P